DEPARTMENT OF LABOR

Employment and Training Administration

[TA-W-39,976, TA-W-39,976C]

VF Imagewear (West), Inc., Harriman, Tennessee; VF Services, Inc., Nashville, TN; Amended Certification Regarding Eligibility To Apply for Worker Adjustment Assistance

In accordance with section 223 of the Trade Act of 1974 (19 USC 2273) the Department of Labor issued a Certification of Eligibility to Apply for Worker Adjustment Assistance on October 1, 2001, applicable to workers of VF Imagewear (West), Inc., Harriman, Tennessee. The notice was published in the Federal Register on October 19, 2001 (66 FR 5351).

At the request of the company, the Department reviewed the certification for workers of the subject firm. The company reports that worker separations have occurred at VF Services, Inc., Nashville, Tennessee. The Nashville, Tennessee workers provide administrative functions and technical computer support for the subject firm's production facilities, including Harriman, Tennessee.

Accordingly, the Department is amending the certification to cover the workers of VF Services, Inc., Nashville, Tennessee.

The intent of the Department's certification is to include all workers of VF Imagewear (West), Inc. who were adversely affected by increased imports.

The amended notice applicable to TA-W-39,976 is hereby issued as follows:

All workers of VF Imagewear (West), Inc., Harriman, Tennessee (TA-W-39,976) and VF Services, Inc., Nashville, Tennessee (TA-W-39,976C) who became totally or partially separated from employment on or after August 22, 2000, through October 1, 2003, are eligible to apply for adjustment assistance under section 223 of the Trade Act of 1974.

Signed at Washington DC this 8th day of March, 2002.
Linda G. Poole,
Certifying Officer, Division of Trade Adjustment Assistance.

[FR Doc. 02-9740 Filed 4-19-02; 8:45 am]

BILLING CODE 4510-30-M